DEPARTMENT OF AGRICULTURE

Plant Breeding Listening Session meeting

ACTION: Notice of a Plant Breeding Listening Session Meeting.

SUMMARY: The Office of the Chief Scientist of the United States Department of Agriculture (USDA) announces a Plant Breeding Listening Session stakeholder meeting for all interested plant breeding and cultivar development stakeholders.

DATES: The Plant Breeding Listening Session will be held August 15, 2013. The public may file written comments up to one week after the meeting with the Contact Person.

ADDRESSES: The meeting will take place at the Jamie L. Whitten Building, 12th Street and Jefferson Drive SW., Washington, DC 20250. Written comments from the public may be emailed to the Contact Person identified in this notice.

FOR FURTHER INFORMATION CONTACT: Jenna Jadin, Advisor, Office of the Chief Scientist; telephone: (202) 260-8318; or email: jenna.jadin@osec.usda.gov.

SUPPLEMENTARY INFORMATION: The Under Secretary of Research, Education, and Economics, Dr. Catherine Woteki, and the Director of the National Institute for Food and Agriculture (NIFA), Dr. Sonny Ramaswamy, have been invited to provide brief remarks and welcome stakeholders during the meeting.

On Thursday, August 15, 2013, the listening session will be held from 8:30 a.m.—5:30 p.m. in room 107-A of the Jamie L. Whitten building. Specific topics of discussion in the morning session will include an introduction to the plant breeding portfolio of all of USDA's relevant mission areas, including a discussion of relevant work, goals, and results.

In the late morning, the audience will listen to 10 minute presentations from stakeholders that discuss their plant breeding and cultivar development programs and/or their perception of needs and potential improvements in publicly-funded plant breeding and cultivar development research. Following lunch, stakeholder presentations will continue, and will be followed by a summary and discussion session in which participants will be asked to discuss their reactions to the information presented earlier in the day, as well as respond to a set of questions presented by the organizers which are aimed at getting feedback on plant breeding and cultivar development needs. The meeting will adjourn by 5:30 p.m.

All stakeholders are welcome to apply for a 10-minute presentation slot, however, due to time constraints, a limited number will be selected on a first come, first served basis. To apply for a slot, please email the Contact Person listed above. All presentations may be simple oral presentations or given in PowerPoint, however, the organizers request that a written transcript of the talk be submitted no later than one week after the event. Written comments by attendees or other interested stakeholders will be welcomed before and up to one week following the listening session (by close of business Thursday, August 22, 2013). All statements will become a part of the official record of the Office of the Chief Scientist and will be kept on file in that office.

All parties interested in attending this event must RSVP no later than August 8, 2013 to the Contact Person listed above.

Due to size constraints in the meeting room, only the first 70 responders will be accepted.

Done at Washington, DC this 23rd day of July 2013.
Ann Bartuska,
Deputy Under Secretary, REE, Chief Scientist, USDA.

[FR Doc. 2013-18153 Filed 7-26-13; 8:45 am]

BILLING CODE 3410-03-P